DEPARTMENT OF LABOR

Mine Safety and Health Administration

Petitions for Modification

The following parties have filed petitions to modify the application of existing safety standards under section 101(c) of the Federal Mine Safety and Health Act of 1977.

1. Anker West Virginia Mining Company, Inc.

[Docket No. M-2003-038-C]

Anker West Virginia Mining Company, Inc., 22 Hampton Road, Buckhannon, West Virginia 26201 has filed a petition to modify the application of 30 CFR 75.364(b)(1) (Weekly examination) to its Spruce Fork Mine No. 1 (MSHA I.D. No. 46-08622) located in Upshur County, West Virginia. The petitioner proposes to establish an evaluation point to be examined weekly to monitor quality, quantity and direction of air flow through the A Mains intake air course starting at spad 428 and ending at spad 388, a distance of 3100 feet (Hereinafter “A Mains air course”). The evaluation point will be established at the inby end of this intake air course near spad 388 to test for methane accumulation, oxygen deficiency, quantity of air and for the proper direction of air flow. The results of these tests will be recorded in a book provided on the surface. The petitioner states that a pre-shift examination of the belt side of the intake stopping line separating the belt from the intake air course will be made every 8 hours, and any hazardous conditions found will be recorded in a book provided on the surface. The petitioner asserts that the proposed alternative method would provide at least the same measure of protection as the existing standard.

2. Rivers Edge Mining, Inc.

[Docket No. M-2003-039-C]

Rivers Edge Mining, Inc., 1970 Barrett Court, PO Box 1990, Henderson, Kentucky 42419-1990 has filed a petition to modify the application of 30 CFR 75.1909(b)(6) (Nonpermissible diesel-powered equipment; design and performance requirements) to its Rivers Edge Mine (MSHA I.D. No. 46-08890) located in Boone County, West Virginia. The petitioner requests a modification of the existing standard to allow the mine to use the Getman Diesel grader underground with rear wheel brakes only. The petitioner proposes to: (i) Limit the diesel grader speed to 10 miles per hour maximum; (ii) physically block higher gear ratios on the Getman diesel grader in order to limit the speed to 10 miles per hour maximum; and (iii) provide training to the grader operators on how to drop the grader blade in the event the brakes fail and the machine needs to be stopped. The petitioner states that the modification will provide the same protection that is realized from the current standard in that the grader can be stopped using the blade as a brake system. The petitioner asserts that the proposed alternative method would provide at least the same measure of protection as the existing standard.

3. Pine Ridge Coal Corporation

[Docket No. M-2003-040-C]

Pine Ridge Coal Company, 1970 Barrett Court, P.O. Box 1990, Henderson, Kentucky 42420 has filed a petition to modify the application of 30 CFR 75.1909(b)(6) (Nonpermissible diesel-powered equipment; design and performance requirements) to its Big Mountain No. 16 Mine (MSHA I.D. No. 46-07908) located in Boone County, West Virginia. The petitioner requests a modification of the existing standard to allow the mine to use the Getman Diesel grader underground with rear wheel brakes only. The petitioner proposes to: (i) Limit the diesel grader speed to 10 miles per hour maximum; (ii) physically block higher gear ratios on the Getman diesel grader in order to limit the speed to 10 miles per hour maximum; and (iii) provide training to the grader operators on how to drop the grader blade in the event the brakes fail and the machine needs to be stopped. The petitioner states that the modification will provide the same protection that is realized from the current standard in that the grader can be stopped using the blade as a brake system. The petitioner asserts that the proposed alternative method would provide at least the same measure of protection as the existing standard.

4. R & D Coal Company, Inc.

[Docket No. M-2003-041-C]

R & D Coal Company, 214 Vaux Avenue, Tremont, Pennsylvania 17981 has filed a petition to modify the application of 30 CFR 75.311(b)(2) and (b)(3) (Main mine fan operation) to its Buck Mountain Slope Mine (MSHA I.D. No. 36-02053) located in Schuylkill County, Pennsylvania. The petitioner requests a modification of the existing standard to permit the electrical circuits entering the underground mine to remain energized to the mine's pumps, while the main fan has been intentionally shut down during idle shifts when no miners are working underground. The petitioner asserts that the proposed alternative method would provide at least the same measure of protection as the existing standard.

5. Orchard Coal Company, Inc.

[Docket No. M-2003-042-C]

Orchard Coal Company, Inc., 214 Vaux Avenue, Tremont, Pennsylvania 17981 has filed a petition to modify the application of 30 CFR 75.311(b)(2) and (b)(3) (Main mine fan operation) to its Orchard Slope Mine (MSHA I.D. No. 36-08346) located in Schuylkill County, Pennsylvania. The petitioner requests a modification of the existing standard to permit the electrical circuits entering the underground mine to remain energized to the mine's pumps, while the main fan has been intentionally shut down during idle shifts when no miners are working underground. The petitioner asserts that the proposed alternative method would provide at least the same measure of protection as the existing standard.

6. Canyon Fuel Company, LLC

[Docket No. M-2003-043-C]

Canyon Fuel Company, LLC, PO Box 1029, Wellington, Utah 84542 has filed a petition to modify the application of 30 CFR 75.1700 (Oil and gas wells) to its Dugout Canyon Mine (MSHA I.D. No. 42-01890) located in Carbon County, Utah. The petitioner requests a modification of the existing standard to allow mining through one abandoned gas well (Drill Hole No. TD-3). The petitioner has listed specific procedures in this petition that would be followed when its proposed alternative method is implemented. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before July 23, 2003. Copies of these petitions are available for inspection at that address.

Dated at Arlington, Virginia this 13th day of June 2003.
Marvin W. Nichols, Jr.,
Director, Office of Standards, Regulations, and Variances.

[FR Doc. 03-15701 Filed 6-20-03; 8:45 am]

BILLING CODE 4510-43-P